DEPARTMENT OF JUSTICE

Drug Enforcement Administration

[Docket No. DEA-823]

Bulk Manufacturer of Controlled Substances Application: Research Triangle Institute

AGENCY: Drug Enforcement Administration, Department of Justice.

ACTION: Notice of application.

SUMMARY: Research Triangle Institute, has applied to be registered as a bulk manufacturer of basic class(es) of controlled substance(s). Refer to Supplementary Information listed below for further drug information.

DATES: Registered bulk manufacturers of the affected basic class(es), and applicants therefore, may file written comments on or objections to the issuance of the proposed registration on or before June 21, 2021. Such persons may also file a written request for a hearing on the application on or before June 21, 2021.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on March 18, 2021, Research Triangle Institute, 3040 East Cornwallis Road, Hermann Building, Room 106, Research Triangle Park, North Carolina 27709, applied to be registered as a bulk manufacturer of the following basic class(es) of controlled substance(s):

Controlled substance | Drug code | Schedule
Tetrahydrocannabinols | 7370 | I

The company plans to bulk manufacture the listed controlled substance synthetically only for distribution to its customers for research and analytical reference standards. No other activity for this drug code is authorized for this registration.

William T. McDermott,
Assistant Administrator.

[FR Doc. 2021-08165 Filed 4-20-21; 8:45 am]

BILLING CODE P